DEPARTMENT OF AGRICULTURE

Federal Crop Insurance Corporation

Request for Applications (RFA): Targeted Commodity Partnerships for Risk Management Education

AGENCY: Federal Crop Insurance Corporation, USDA.

ACTION: Announcement of availability of funds and request for applications under the Targeted Commodity Partnerships for Risk Management Education Program.

SUMMARY: In accordance with section 522 of the Federal Crop Insurance Act (Act), the Federal Crop Insurance Corporation (FCIC) announces the availability of approximately $2 million for partnership agreements that will fund risk management training and informational activities, with a priority for reaching agricultural producers of agricultural commodities currently covered by section 196 of the Agricultural Market Transition Act (7 U.S.C. 7333); specialty crops; and underserved commodities (collectively referred to as “Targeted Commodities”). The maximum funding available to any recipient of a partnership agreement award will be $100,000. Recipients of awards must demonstrate non-financial benefits from a partnership agreement and must agree to substantial involvement of RMA in the project. This announcement lists the information needed to submit an application for these funds.

CLOSING DATES: The closing date and time for receipt of applications is 5 p.m. EST on June 3, 2002. The agency will not consider applications received after the deadline.

FOR FURTHER INFORMATION CONTACT: Applicants and other interested parties are encouraged to contact: Lydia Astorga, USDA-RMA-RME, 1400 Independence Ave. SW., Stop 0808, (Portals Bldg., Suite 508), Washington, DC 20250-0808, phone: (202) 260-4728, fax: (202) 690-3605, e-mail: Lydia_Astorga@wdc.usda.gov. You may also obtain information regarding this announcement from the RMA website at: www.rma.usda.gov.

Applicants may download an applications package from the Risk Management Agency (RMA) website at: www.rma.usda.gov. Applicants may also request an application package from: Lydia Astorga, USDA-RMA-RME, 1400 Independence Ave. SW., Stop 0808, (Portals Bldg., Suite 508), Washington, DC 20250-0808, phone: 202-260-4728, fax: 202-690-3605, e-mail: Lydia_Astorga@wdc.usda.gov.

Applicants are strongly encouraged to submit completed and signed application packages using overnight mail or delivery service to ensure timely receipt by the USDA. The applicable address for such submissions is: RME Cooperative Agreement Program, c/o Lydia Astorga, USDA-RMA-RME, 1250 Maryland Ave. SW., Suite 508, Washington, DC 20024.

Completed and signed application packages sent via the U.S. Postal Service must be sent to the following address: RME Cooperative Agreement Program, c/o Lydia Astorga, USDA-RMA-RME, 1400 Independence Ave. SW, Stop 0808, (Portals Bldg. Suite 508), Washington, DC 20250-0808.

Paperwork Reduction Act

Under the provisions of the Paperwork Reduction Act of 1995, as amended (44 U.S.C. chapter 25), the collection of information requirements contained in this announcement have been approved under OMB Document Nos. 0348-0043, 0348-0044, and 0348-0046.

The Catalog of Federal Domestic Assistance Number for this program is 10.450.

SUPPLEMENTARY INFORMATION: This program announcement consists of six parts:

Part I—General Information

A. Authority

B. Background

C. Project Goals

D. Purpose

Part II—Program Objectives and Requirements

A. Eligible Applicants

B. Project Period

C. Availability of Funds and Amounts

Part III—Program Description

A. Recipient Activities

B. RMA Activities

Part IV—Preparation of an Application

A. Program Application Materials

B. Content of Applications

C. Submission of Applications

D. Acknowledgement of Applications

Part V—Review Process

A. General

B. Evaluation Criteria and Weights

C. Confidentiality

Part VI—Additional Information

A. Access to Panel Review Information

B. Notification of Partnership Agreement Awards

C. Confidential Aspects of Proposals and Awards

D. Reporting Requirements

E. Audit Requirements

F. Prohibitions and Requirements with Regard to Lobbying

Part I—General Information

A. Authority

This program is authorized under section 522(d)(3)(F) of the Federal Crop Insurance Act (7 U.S.C. 1522(d)(3)(F)).

B. Background

FCIC is committed to meeting the risk management needs of the nation's farmers and ranchers. It does this by offering Federal crop insurance products through a network of private-sector partners, overseeing the creation of new products, seeking enhancements in existing products, ensuring the integrity of crop insurance programs, offering outreach programs aimed at equal access and participation of underserved communities, and providing risk management education and information.

FCIC's educational mission was strengthened significantly with the enactment of section 522(d)(3)(F) of the Act. This section increases the funding for training and other informational efforts through the formation of partnerships with public and private organizations for the purpose of establishing risk management training and informational programs for agricultural producers. A priority is to be given to partnerships designed to reach producers of Targeted Commodities. An “agricultural commodity,” as used in this announcement, means wheat, cotton, fax, corn, dry beans, oats, barley, rye, tobacco, rice, peanuts, soybeans, sugar beets, sugar cane, tomatoes, grain sorghum, sunflowers, raisins, oranges, sweet corn, dry peas, freezing and canning peas, forage, apples, grapes, potatoes, timber and forests, nursery crops, citrus, and other fruits and vegetables, nuts, tame hay, native grass, aquacultural species (including, but not limited to, any species of finfish, mollusk, crustacean, or other aquatic invertebrate, amphibian, reptile, or aquatic plant propagated or reared in a controlled or selected environment), or any other agricultural commodity, excluding stored grain, determined by the Board of the Federal Crop Insurance Corporation, or any one or more of such commodities, as the context may indicate.

C. Project Goals

The goals of these educational projects if to provide farmers and ranchers with urgently needed training and information to be able to:

• Identify the risk management tools that are available for their commodities;

• Know where to obtain the risk management tools;

• Understand how each risk management tool operates; and

• Select the risk management tools that best meet the risk management needs.

D. Purpose

Each partnership agreement awarded through this program will provide the applicant with funds, guidance, and the substantial involvement of the Risk Management Agency (RMA) to carry out a risk management education program for the producers or commodities identified above. The purpose of this program: “to provide producers with training and informational opportunities so that the producers will be better able to use financial management, crop insurance, marketing contracts, and other existing and emerging risk management tools.”

The ideal time to reach producers with training and informational programs is after harvesting has ended and before spring plantings begin—roughly a period of November through March. Therefore, this announcement anticipates that training and informational activities directed towards producers will be planned mostly for the November 2002 through March 2003 period. However, it does not limit training and informational activities to this time period. To reach producers during the peak period, it is anticipated that project leaders will need sufficient lead-time to organize and schedule events, commit funds to reserve event facilities, gather materials, raise awareness, and otherwise make the preparations needed to ensure producer participation. Most of all, project leaders need time to foster the cooperation and active support of organizations with close ties to local producers. The cooperation of such organizations is essential in influencing local producers to participate in the type of activities envisioned in this educational program.

Part II—Program Objectives and Requirements

A. Eligible Applicants

Eligible applicants include State departments of agriculture, State land-grant universities, non-profit agricultural organizations, and other public or private organizations with the local experience needed to lead an educational program for farmers and ranchers in any area of the United States or Puerto Rico. Applicants must have demonstrated capabilities in developing and implementing risk management and marketing options for Targeted Commodities. Applicants must also be able to demonstrate that they will receive a non-financial benefit as a result of a partnership agreement. Non-financial benefits must be to the applicant, not the agricultural community, and must include more than the ability to provide employment. The applicant must demonstrate that performance under the partnership agreement will further the specific mission of the applicant (such as providing research or activities necessary for graduate or other students to complete their educational program) or increase the knowledge base of the farmers and ranchers that are served by the applicant and thereby decreasing the risk of loss to the applicant (such as applicants who provide goods or services to farmers or ranchers and would be adversely affected if the farmer or ranchers did not have adequate risk protection).

B. Project Period

Each project will be funded for a period of up to one year for the activities described in this announcement.

C. Availability of Funds and Amounts

Approximately $2,000,000 is available in fiscal year 2002 to fund partnership agreements. The maximum for any partnership agreement award will be $100,000. It is expected that the awards will be made 30 days after application deadline.

To ensure that this program gives priority to the risk management training of those producers identified above and to ensure that the program reaches a geographically diverse set of agricultural producers, each application will be assigned to one of ten regions for evaluation and consideration for funding. These ten regions correspond to the areas serviced by RMA's ten Regional Offices. An amount has been assigned to each region to serve as a guide for determining the amount of awards that will be funded in each region. The approximate funding amounts available for distribution by RMA Regional Office (with the States serviced by each Office) is as follows:

Billings, MT (MT, WY, ND, SD) | $125,000
Davis, CA (CA, HI, NV, UT, AZ) | 500,000
Jackson, MS (MS, AR, LA, TN, KY) | 125,000
Oklahoma City, OK (OK, TX, NM) | 175,000
Raleigh, NC (NC, VA, WV, MD, DE, NJ, PA NY, VT, CT, RI, MA, NH ME) | 125,000
Spokane, WA (WA, OR, ID, AK) | 250,000
Springfield, IL (IL, IN, MI, OH) | 175,000
St. Paul, MN (MN, WI, IA) | 125,000
Topeka, KS (KS, MO, NE, CO) | 125,000
Valdosta, GA (GA, AL, SC, FL, Puerto Rico) | 275,000
Total | 2,000,000

The funding maximums for each region was determined by first distributing half the available funding by allocating $100,000 to each region. The remaining funds were allocated on a pro rata basis according to each regions estimated share of 1999 agricultural cash receipts for Targeted Commodities. The allocation by region also accounts for the fact that funding is also being provided for a crop insurance education program in fifteen States identified by the Secretary as underserved, which includes Maine, New Hampshire, Vermont, Connecticut, Rhode Island, Massachusetts, New York, New Jersey, Delaware, Maryland, Pennsylvania, West Virginia, Utah, Nevada, and Wyoming. The totals of both allocations are rounded to the nearest $25,000.

If there are insufficient number of proposals in a region such that the requested funding does not hit the maximum amount available, the excess funds may be provided to other regions where the proposals received exceeds the maximum amount available. If RMA determines that certain proposals should be funded but the total requested funds under such proposals exceed the maximum amount available, RMA my request that each proposal accept a reduction in funds on a pro rata basis such that the total amount of funding requests does not exceed the maximum amount available.

Part III—Program Description

In conducting activities to achieve the purpose and goals of this program, the applicant will be responsible for the activities listed under paragraph A of this part. RMA will provide substantial technical assistance on the presentation and dissemination of Federal crop insurance information and will be specifically responsible for the activities listed under paragraph B.

A. Recipient Activities

The applicant will be required to perform the following activities:

1. Assemble a risk management curriculum for producers. This will include: (a) Gathering existing instructional materials that meet the local needs of agricultural producers of agricultural commodities; (b) identifying gaps in existing instructional materials; and (c) developing new materials or modifying existing instructional materials to fill existing gaps.

2. Develop and conduct a promotional program. This program will include activities using media, newsletters, publications, or other informational dissemination techniques that are designed to: (a) Raise awareness for risk management; (b) inform producers of the availability of risk management tools; and (c) inform producers of training and informational opportunities.

3. Deliver education and information to agribusiness professionals. This will include organizing and delivering training to those agribusiness professionals that have frequent opportunities to advise farmers of agricultural commodities and to those individuals that will directly train producers under this program.

4. Organize and deliver risk management training and informational opportunities developed in paragraph (1) to agricultural producers of agricultural commodities. This will include organizing and delivering training through trained instructors to local farmers and ranchers.

5. Use a program logo and design provided by RMA for all instructional and promotional material.

6. Document all education and preparatory activities done and the results of such activities under the partnership agreement, state the evaluation criteria to be used to determine whether the educational program was a success, and work with an RMA-selected contractor to evaluate all educational activities and advise RMA as to the effectiveness of activities.

7. Create and implement a program delivery plan that contains each of the tasks to be performed to accomplish all the goals and responsibilities under this announcement, the manner in which task and goal will be accomplished, including RMA's role and responsibilities, and the dates by which such tasks will be completed.

B. RMA Activities

RMA will be responsible for the following activities:

1. Collaborate on organization of a risk management curriculum developed by the applicant for producers of agricultural commodities. This will include: (a) Serving on curriculum development workgroups; (b) providing curriculum developers with fact sheets and other crop insurance publications from RMA; (c) advising the applicant on the materials available over the internet through the AgRisk Education Library; (d) advising the applicant on technical issues related to crop insurance instructional materials; (e) advising the applicant on the use of the standardized design and layout formats to be used on program materials; and (f) reviewing and approving in advance all educational materials for technical accuracy.

2. Collaborate on a promotional program for raising awareness for risk management and for informing producers of agricultural commodities of training and informational opportunities. This will include: (a) serving on workgroups that plan promotional programs; (b) advising the applicant on technical issues relating to the presentation of crop insurance products in promotional materials; (c) participating, as appropriate, in media programs designed to raise general awareness or provide farmers with risk management education; and (d) reviewing and approving in advance all promotional plans, materials, and programs.

3. Collaborate on the organization and delivery of training to agribusiness leaders and producer trainers. This will include: (a) Advising the applicant on technical issues related to the delivery of crop insurance education and information to agribusiness professionals; (b) assisting the applicant in informing crop insurance professionals about agribusiness training plans and scheduled meetings; (c) participating in the presentation of training to agribusiness professionals; and (d) reviewing and approving in advance all agribusiness training plans.

4. Collaborate on the organization and delivery of risk management education to agricultural producers. This would include: (a) advising the applicant on technical issues relating to the delivery of crop insurance education and information to farmers and ranchers; (b) assisting the applicant in informing crop insurance professionals about farmer and rancher training activities; and (c) reviewing and approving in advance all producer training plans.

In addition to the specific activities listed above, the applicant may suggest other activities that would contribute directly to the purpose of this program. For any additional activity suggested, the applicant should identify specific ways in which RMA could have substantial involvement in that activity.

Part IV—Preparation of an Application

A. Program Application Materials

Program application materials under this announcement may be downloaded from the RMA website at: www.rma.usda.gov. Applicants may also request application materials from: Lydia Astorga, USDA-RMA-RME, 1400 Independence Ave. SW, Stop 0808, (Portals Bldg., Suite 508), Washington, DC 20250-0808, phone: (202) 260-4728, fax: (202) 690-3605, e-mail: Lydia_Astorga@wdc.usda.gov.

B. Content of Applications

A complete and valid application package must include the following:

1. A completed and signed OMB Standard Form 424, “Application for Federal Assistance''.

2. A completed and signed OMB Standard Form 424-A, “Budget Information—Non-construction Programs''.

3. A written narrative (limited to 10 single-sided pages) that describes the educational project, the program delivery plan, the evaluation criteria to determine whether the program was successful, and provides reviewers with sufficient information to effectively evaluate the application under the criteria contained part V.

4. An Appendix containing any attachments that may support information in the narrative (Optional)

5. A statement of the non-financial benefits of any partnership agreement.

6. A completed and signed OMB Standard Form LLL, “Disclosure of Lobbying Activities.”

C. Submission of Applications

An original and two copies of the completed and signed application must be submitted in one package at the time of initial submission.

All applications must be submitted by the deadline. Applications that do not meet all of the requirements in this announcement are considered as late applications. Late applications will not be considered in the current competition and will be returned to the applicant.

Applications submitted through express, overnight mail or another delivery service will be considered as meeting the announced deadline if they are received in the mailroom at the address stated above for express, overnight mail or another delivery service on or before the deadline. Applicants are cautioned that express, overnight mail or other delivery services do not always deliver as agreed. Applicants should take this into account because failure of such delivery services will not extend the deadline. The address must appear on the envelope or package containing the application with the note “Attention: Targeted Commodity Partnerships for Risk Management Education Program''

Mailed applications will be considered meeting the announced deadline if they are received on or before the deadline in the mailroom at the address stated above for mailed applications. Applicants are responsible for mailing applications well in advance, to ensure that applications are received on or before the deadline time and date. Applicants using the U.S. Postal Service should allow for the extra time for delivery due to the additional security measures that mail delivered to government offices in the Washington DC area now requires. RMA cannot accommodate transmissions of applications by facsimile or through other electronic media. Therefore, applications transmitted electronically will not be accepted regardless of the date or time of submission or the time of receipt.

D. Acknowledgement of Applications

Receipt of applications will be acknowledged by e-mail, whenever possible. Therefore, applicants are encouraged to provide e-mail addresses in their applications. If an e-mail address is not indicated on an application, receipt will be acknowledged by letter.

When received by RMA, applications will be assigned an identification number. This number will be communicated to applicants in the acknowledgement of receipt of applications. An applications identification number should be referenced in all correspondence regarding the application. If the applicant does not receive an acknowledgement within 15 days of the submission deadline, the applicant should contact Lydia Astorga at (202) 260-4728.

Part V—Review Process

A. General

Each application will be evaluated using a three-part process. First, each application will be screened by RMA personnel to ensure that it meets the requirements in this announcement and sorted into regional groupings according to the region in which the applicant proposes to deliver risk management training. Regional assignments of applications will be determined by matching the location of the majority of farmers and ranchers identified in an application as the beneficiaries of the applicant's educational efforts with the areas serviced by RMA's Regional Offices. In the event an application identifies producers to be trained in areas serviced by more than one RMA Regional Office or if the specific location of the farmers and ranchers to be trained is unclear from the application, then RMA will make a determination as to which region's producers would most likely benefit from the applicant's educational efforts and assign the application to that region for evaluation. Each application that meet the deadlines and are in conformance with all requirements in this announcement will be reviewed competitively.

Second, a review panel will determine whether the producers to be provided with training and informational opportunities are producers of Targeted Commodities. All applications in a given region designated by the panel as producers of Targeted Commodities, will be awarded 10 bonus evaluation points. Bonus evaluation points will be added later to a project's merit evaluation points to determine an application's total score.

Third, the review panel will consider the merits of all applications that pass the initial screen. The panel for each application will be comprised of not less than three independent reviewers from USDA, other federal agencies, and others representing public and private organizations, as needed. The narrative, and any appendixes, provided by each applicant will be used by the review panel to evaluate the merits of the project that is being proposed for funding. The panel will examine and rank all applications within each region's grouping and award merit evaluation points based on the “Evaluation Criteria and Weights” contained in paragraph B. Each regional grouping will be evaluated, ranked, and scored independently.

Applications will be evaluated in each of the five criteria listed below and the top five applications for each Targeted State will be ranked one through five, with one being the highest, for each category. Each criteria has specific elements that the panel will look at when evaluating the applications and ranking them. A specific number of points are assigned to each of the top five rankings. The numerical scored will be supported by explanatory statements on the formal rating form describing the major strengths and weaknesses under each applicable criteria contained in paragraph B of this part.

After evaluating each of the applications, the scores for each reviewer on the panel will be averaged for each criterion. After the scored for each criterion have been averaged, they will be totaled together to determine the merit score. Bonus points, if any will be added to determine the total score. This ranking scheme assumes that at least five applications are available for evaluation in each regional grouping. If less than five applications are available for a given region, then for each evaluation criterion, reviewers will assign the available applications to one of the five available ranking slots with its associated score, according to the application's merits with respect to that criterion.

In the event that more than five applications are received for a given region, and the maximum amount available has not been reached, the review panel may elect to conduct a second round of application evaluations after an initial round has been completed. The panel will score a second round by first, recommending that the applications receiving the top five scores from the initial round be given priority for funding in the order one through five. The panel will then evaluate all remaining applications in the same manner that the evaluation was conducted for the initial round. The top scoring applications from the second round will be recommended for funding until the maximum amount available has been reached. If the review panel determines that additional evaluation rounds are needed, it will conduct them in a similar manner to those used for the second rounds to expand the ranking list of applications recommended for funding for that region.

After all applications have been rated, ranked, and scored (including both merit and bonus evaluation points), a lottery will be used to resolve any instances of tie total scores for a given region. If such a lottery is required, the names of all tied applicants for a given region will be entered into a drawing. The first applicant drawn will be considered as having priority in funding over other tied applicants. If needed, other names with tied scores will be drawn in turn to determine the funding priority for all tied applicants in a region.

After all tied scores have been resolved, the review panel will report to the Manager of FCIC on the results from each region. The panel's report will include a listing of funding recommendations, using the approximate funding available per region identified in this announcement as a guide. The panel may, at its discretion, recommend that any application receiving 50 or fewer points not receive funding. The Manager of FCIC will make the final determination on those applications that will be awarded funding.

B. Evaluation Criteria and Weights

Applications will be evaluated according to the following criteria:

1. Management—maximum 15 points

The applicant for funding must demonstrate their ability to implement sound and effective management practices and have the organizational skills, leadership, and experience in delivering services or programs that assist agricultural producers of agricultural commodities in the geographical area in which the applicant intends to deliver training. If they have been recipients of other Federal or other government grants, cooperative agreements, or contracts, the applicant must also detail that they have consistently complied with financial and program reporting and auditing requirements. Applicants that will employ, or have access to, personnel who have experience in directing agricultural programs or providing educations programs that benefit the targeted producers will receive higher rankings.

The application ranking and scoring for each region for the Management criteria are:

Ranking | Scoring
Highest | 15.
2nd Highest | 12 points.
3rd Highest | 9 points.
4th Highest | 6 points.
5th Highest | 3 points.

2. Partnering_maximum 25 points

The applicant must demonstrate experience and capacity to partner with and gain the support of grower organizations, agribusiness professionals, and agricultural leaders to carry out a local program of risk management education and information to the producers of agricultural commodities. Applicants that can demonstrate and document that partnership commitments are in place for the express purpose of delivering the program in this announcement will receive higher rankings than applicants that cannot demonstrate existing partnerships. Moreover, applicants with existing partnerships reaching a broader group of farmers and ranchers will be ranked higher than those with more limited partnerships.

The application ranking and scoring for each region for the Partnering criteria are:

Ranking | Scoring
Highest | 25 points.
2nd Highest | 20 points.
3rd Highest | 15 points.
4th Highest | 10 points
5th Highest | 5 points.

3. Goals and Objectives_maximum 25 points

For each of the applicant's responsibilities contained in part III , the applicant must demonstrate that he or she can establish specific goals, tasks, and time lines that further the purpose of this program. Applicants will obtain a higher ranking to the extent that the goals envisioned for each task of the project are specific, measurable, time-framed, realistic, have specific time frames for completion, and relate directly to the required activities and program objectives described in this announcement.

The application ranking and scoring for each region for the Goals and Objectives criteria are:

Ranking | Scoring
Highest | 25 points.
2nd Highest | 20 points.
3rd Highest | 15 points.
4th Highest | 10 points.
5th Highest | 5 points.

4. Cost Effectiveness_maximum 20 points

The applicant must demonstrate that the direct and indirect risk management education benefits to farmers and ranchers in the State warrant the funding requested. Applicants will be ranked according to the extent to which they can effectively demonstrate that the quantity and quality of the risk management education and information received by producers during the project is maximized relative to the requested funding. Expected educational benefits can be estimated both directly (through the hours of educational activities planned specifically for agricultural producers and the resulting number of producers expected to be reached) and indirectly (through educational activities planned for agribusiness professionals who will relay information to producers). Higher rankings in each region will be awarded to those applicants with greater expected benefits for producers relative to the funds that are requested by the applicant.

The application ranking and scoring for each region for the Cost Effectiveness criteria are:

Ranking | Scoring
Highest | 20 points.
2nd Highest | 16 points.
3rd Highest | 12 points.
4th Highest | 8 points.
5th Highest | 4 points.

5. Program Delivery Plan_maximum 15 points

The applicant must demonstrate that its program delivery plan described in the narrative will be effective. Higher rankings will be given to those applicants that can demonstrate that it has an effective plan for each of the required responsibilities contained in part III. Also, those applicants that can demonstrate that its plan can be expected to lead to increased risk awareness by agribusiness professionals and producers of agricultural commodities and increased risk management skills of local producers will receive higher rankings.

The application ranking and scoring for each region for the Program Delivery Plan criteria are:

Ranking | Scoring
Highest | 15 points.
2nd Highest | 12 points.
3rd Highest | 9 points.
4th Highest | 6 points.
5th Highest | 3 points.

C. Confidentiality

The names of applicants, the content of applications, and the panel evaluations of applications will all be kept confidential, except to those involved in the review process, to the extent permitted by law. In addition, the identities of review panel members will remain confidential throughout the entire review process and will not be released to applicants. At the end of the fiscal year, names of panel members will be made available. However, panelists will not be identified with the review of any particular application.

Part VI_Additional Information

A. Access to Panel Review Information

Copies of rating forms, not including the identity of reviewers, will be sent to the applicant after the review and awards process has been completed.

B. Notification of Partnership Agreement Awards

Following approval of the applications selected for funding, notice of project approval and authority to draw down funds will be made to the selected applicants in writing. Within the limit of funds available for such purpose, the awarding official of RMA shall enter into partnership agreements with those applicants whose applications are judged to be most meritorious under the procedures set forth in this announcement, which provides the amount of Federal funds for use in the project period, the terms and conditions of the award, and the time period for the project. The effective date of the partnership agreement shall be on the date the agreement is executed by both parties and it shall remain in effect for no more that one year. All funds provided to the applicant by FCIC must be expended solely for the purpose for which the funds are obligated in accordance with the approved application and budget, the regulations, the terms and conditions of the award, and the applicability of Federal cost principles. No commitment of Federal assistance beyond the project period is made or implied, as a result of any award resulting from this Notice.

C. Confidential Aspects of Proposals and Awards

When an application results in a partnership agreement, it becomes a part of the official record of RMA transactions, available to the public upon specific request. Information that the Secretary of Agriculture determines to be of a confidential, privileged, or proprietary nature will be held in confidence to the extent permitted by law. Therefore, any information that the applicant wishes to be considered confidential, privileged, or proprietary should be clearly marked within an application. The original copy of a proposal that does not result in an award will be retained by RMA for a period of one year. Other copies will be destroyed. Such a proposal will be released only with the express written consent of the applicant or to the extent required by law. A proposal may be withdrawn at any time prior to award.

D. Reporting Requirements

The applicants awarded the partnership agreement will be required to submit semi-annual progress and financial reports (SF-269) throughout the project period, as well as a final program and financial report not later than 90 days after the end of the project period.

E. Audit Requirements

The applicants awarded the partnership agreement are subject to audit.

F. Prohibitions and Requirements With Regard to Lobbying

Section 1352 of Public Law 101-121, enacted on October 23, 1989, imposes prohibitions and requirements for disclosure and certification related to lobbying on recipients of Federal contracts, grants, cooperative agreements, and loans. It provides exemptions for Indian Tribes and tribal organizations. Current and prospective recipients, and any subcontractors, are prohibited from using Federal funds, other than profits from a Federal contract, for lobbying Congress or any Federal agency in connection with the award of a contract, grant, cooperative agreement, or loan. In addition, for each award action in excess of $100,000 ($150,000 for loans) the law requires recipients and any subcontractors (1) to certify that they have neither used nor will use any appropriated funds for payment of lobbyists; (2) to disclose the name, address, payment details, and purpose of any agreements with lobbyists whom recipients of their subcontractors will pay with profits or other nonappropriated funds on or after December 22, 1989; ad (3) to file quarterly up-dates about the use of lobbyists if material changes occur in their use. The law establishes civil penalties for non-compliance. A copy of the certification and disclosure forms must be submitted with the application and are available from Lydia Astorga at the above stated address and telephone number.

Signed in Washington, DC, on April 15, 2002.
Ross J. Davidson, Jr.,
Manager, Federal Crop Insurance Corporation.

[FR Doc. 02-9615 Filed 4-18-02; 8:45 am]

BILLING CODE 3410-08-P